NATIONAL FOUNDATION ON THE ARTS AND THE HUMANITIES

Meetings of Humanities Panel

AGENCY: National Endowment for the Humanities.

ACTION: Notice of Meetings.

SUMMARY: The National Endowment for the Humanities will hold three meetings of the Humanities Panel, a federal advisory committee, during January, 2015. The purpose of the meetings is for panel review, discussion, evaluation, and recommendation of applications for financial assistance under the National Foundation on the Arts and Humanities Act of 1965.

DATES: See Supplementary Information section for meeting dates.

ADDRESSES: The meetings will be held at The John W. Kluge Center at the Library of Congress, 101 Independence Avenue SE., Washington, DC 20540-4860.

FOR FURTHER INFORMATION CONTACT: Lisette Voyatzis, Committee Management Officer, 400 7th Street SW., Room 4060, Washington, DC 20506; (202)606-8322; evoyatzis@neh.gov. Hearing-impaired individuals who prefer to contact us by phone may use NEH's TDD terminal at (202) 606-8282.

SUPPLEMENTARY INFORMATION: Pursuant to section 10(a)(2) of the Federal Advisory Committee Act (5 U.S.C. App.), notice is hereby given of the following meetings:

1. DATE: January 27, 2015

TIME: 8:30 a.m. to 5:00 p.m.

This meeting will discuss applications for Kluge Fellowships, submitted to the division of Research Programs.

2. DATE: January 28, 2015

TIME: 8:30 a.m. to 5:00 p.m.

This meeting will discuss applications for Kluge Fellowships, submitted to the division of Research Programs.

3. DATE: January 29, 2015

TIME: 8:30 a.m. to 5:00 p.m.

This meeting will discuss applications for Kluge Fellowships, submitted to the division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: December 9, 2014.
Lisette Voyatzis,
Committee Management Officer.

[FR Doc. 2014-29214 Filed 12-12-14; 8:45 am]

BILLING CODE 7536-01-P